DEPARTMENT OF COMMERCE

International Trade Administration

[A-588-867]

Notice of Postponement of Final Antidumping Duty Determination and Extension of Provisional Measures: Metal Calendar Slides from Japan

AGENCY: Import Administration, International Trade Administration, Department of Commerce.

EFFECTIVE DATE: March 14, 2006.

FOR FURTHER INFORMATION CONTACT: Scott Lindsay or Dara Iserson, Import Administration, International Trade Administration, U.S. Department of Commerce, 14th Street and Constitution Avenue, NW., Washington, DC 20230; telephone: (202) 482-0780 or (202) 482-4052, respectively.

Postponement of Final Determination

The Department of Commerce (the Department) is postponing the final determination in the antidumping duty investigation of metal calendar slides from Japan.

On July 26, 2005, the Department published the initiation of the antidumping duty investigation on imports of metal calendar slides from Japan. See Initiation of Antidumping Duty Investigation: Metal Calendar Slides from Japan, 70 FR 43122 (July 26, 2005). On February 1, 2006, the Department published its affirmative preliminary determination in this investigation. See Notice of Preliminary Determination of Sales at Less Than Fair Value: Metal Calendar Slides from Japan, 71 FR 5244 (February 1, 2006). This notice stated that the Department would issue its final determination no later than 75 days after the date on which the Department issued its preliminary determination.

Section 735(a)(2)(A) of the Tariff Act of 1930, as amended, (the Act) and 19 CFR 351.210(b)(2)(ii) provide that a final determination may be postponed until no later than 135 days after the date of the publication of the preliminary determination if, in the event of an affirmative preliminary determination, a request for such postponement is made by exporters who account for a significant proportion of exports of the subject merchandise. Additionally, the Department's regulations, at 19 CFR 351.210(e)(2)(ii), require that requests by a respondent for postponement of a final determination be accompanied by a request for an extension of the provisional measures from a four-month period to not more than six months.

On February 13, 2006, in accordance with section 735(a)(2)(A) of the Act and 19 CFR 351.210(b)(2)(ii), the only known exporter, Nishiyama Kinzoku Co. Ltd. (Nishiyama), requested that the Department: (1) Postpone the final determination; and (2) extend the provisional measures period from four months to a period not longer than six months. Accordingly, pursuant to section 735(a)(2)(A) of the Act and 19 CFR 351.210(b)(2)(ii), because: (1) The preliminary determination is affirmative; (2) the requesting exporter accounts for a significant proportion of exports of the subject merchandise in this investigation; and (3) no compelling reasons for denial exist, we are postponing the final determination until no later than 135 days after the publication of the preliminary determination in the Federal Register (i.e., until no later than June 16, 2006). Suspension of liquidation will be extended accordingly.

This notice of postponement is published pursuant to section 735(a) of the Act and 19 CFR 351.210(g).

Dated: March 8, 2006.
Stephen J. Claeys,
Deputy Assistant Secretary for Import Administration.

[FR Doc. E6-3630 Filed 3-13-06; 8:45 am]

BILLING CODE 3510-DS-S